SECURITIES AND EXCHANGE COMMISSION

[SEC File No. 270-523, OMB Control No. 3235-0585]

Proposed Collection; Comment Request; Extension: Rule 206(4)-7

Upon Written Request, Copies Available From: Securities and Exchange Commission, Office of FOIA Services, 100 F Street NE, Washington, DC 20549-2736

Notice is hereby given that, pursuant to the Paperwork Reduction Act of 1995 (44 U.S.C. 3501 et seq.), the Securities and Exchange Commission (“Commission”) is soliciting comments on the collection of information summarized below. The Commission plans to submit this existing collection of information to the Office of Management and Budget for extension and approval.

The title for the collection of information is “Investment Advisers Act rule 206(4)-7, 17 CFR 275.206(4)-7, Compliance procedures and practices.” This collection of information is found at 17 CFR 275.206(4)-7, and is mandatory. Rule 206(4)-7 under the Investment Advisers Act of 1940 (“Advisers Act”) requires each investment adviser registered with the Commission to (1) adopt and implement written policies and procedures reasonably designed to prevent violations of the Advisers Act and its rules, (2) review those compliance policies and procedures annually, and (3) designate a chief compliance officer who is responsible for administering the compliance policies and procedures. The rule is designed to protect investors by fostering better compliance with the securities laws. The collection of information under rule 206(4)-7 is necessary to help ensure that investment advisers maintain comprehensive internal programs that promote the advisers' compliance with the Advisers Act and its rules. The Commission's examination and oversight staff may review the information collected to assess investment advisers' compliance programs. Responses provided to the Commission pursuant to the rule in the context of the Commission's examination and oversight program are generally kept confidential.¹ An agency may not conduct or sponsor, and a person is not required to respond to, a collection of information unless it displays a currently valid control number.

¹ See section 210(b) of the Advisers Act (15 U.S.C. 80b-10(b)).

The respondents to this information collection are investment advisers registered with the Commission. Updated data indicate that there were 15,441 advisers registered with the Commission as of December 31, 2023. Each respondent would produce one response, per year. Commission staff has estimated that compliance with rule 206(4)-7 imposes an annual burden of approximately 90 hours per response. Based on this figure, Commission staff estimates a total annual burden of 1,389,690 hours for this collection of information.

Written comments are invited on: (a) whether the proposed collection of information is necessary for the proper performance of the functions of the Commission, including whether the information shall have practical utility; (b) the accuracy of the Commission's estimate of the burden of the collection of information; (c) ways to enhance the quality, utility, and clarity of the information collected; and (d) ways to minimize the burden of the collection of information on respondents, including through the use of automated collection techniques or other forms of information technology. Consideration will be given to comments and suggestions submitted by September 27, 2024.

An agency may not conduct or sponsor, and a person is not required to respond to, a collection of information under the PRA unless it displays a currently valid OMB control number.

Please direct your written comments to: Austin Gerig, Director/Chief Data Officer, Securities and Exchange Commission, c/o Oluwaseun Ajayi, 100 F Street NE, Washington, DC 20549 or send an email to: PRA_Mailbox@sec.gov.

Dated: July 23, 2024.
Sherry R. Haywood,
Assistant Secretary.

[FR Doc. 2024-16567 Filed 7-26-24; 8:45 am]

BILLING CODE 8011-01-P